ENVIRONMENTAL PROTECTION AGENCY

[FRL-7964-9]

Clean Air Scientific Advisory Committee; Science Advisory Board (SAB) Staff Office; Clean Air Scientific Advisory Committee (CASAC) Lead Review Panel; Request for Nominations

AGENCY: Environmental Protection Agency (EPA).

ACTION: Notice.

SUMMARY: The U.S. Environmental Protection Agency (EPA or Agency) Science Advisory Board (SAB) Staff Office is announcing the formation of the Clean Air Scientific Advisory Committee (CASAC) Lead Review Panel (Panel) and is soliciting nominations for this Panel. Nominees in response to this request for nominations will be considered for membership on the CASAC Lead Review Panel. This process supplements other efforts to identify qualified candidates for this Panel.

DATES: New nominations should be submitted by September 27, 2005.

FOR FURTHER INFORMATION CONTACT: Any member of the public wishing further information regarding this Request for Nominations may contact Mr. Fred Butterfield, Designated Federal Officer (DFO), EPA Science Advisory Board Staff: by telephone at (202) 343-9994; by e-mail at butterfield.fred@epa.gov; or by mail at the U.S. Environmental Protection Agency, EPA Science Advisory Board Staff Office (Mail Code 1400F), 1200 Pennsylvania Avenue, NW., Washington, DC, 20640. General information concerning the CASAC or the SAB can be found on the EPA Web site at: http://www.epa.gov/sab.

SUPPLEMENTARY INFORMATION:

Background

The Clean Air Scientific Advisory Committee (CASAC) was established under section 109(d)(2) of the Clean Air Act (CAA or Act) (42 U.S.C. 7409) as an independent scientific advisory committee. CASAC provides advice, information and recommendations on the scientific and technical aspects of air quality criteria and national ambient air quality standards (NAAQS) under sections 108 and 109 of the Act. The CASAC Lead Review Panel will consist of the seven members of the chartered CASAC, supplemented by additional subject matter experts. This solicitation is seeking nominations for the additional experts. The CASAC is a Federal advisory committee chartered under the Federal Advisory Committee Act (FACA), as amended, 5 U.S.C., App. The CASAC Lead Review Panel will comply with the provisions of FACA and all appropriate SAB Staff Office procedural policies.

The CAA Act requires periodic review and, if appropriate, revision of the criteria and NAAQS for lead. EPA's Air Quality Criteria Document (AQCD) for Lead was first published in 1978, and revised in 1986. An addendum was published in 1986, and a Supplement to the Lead AQCD was published in 1990. The latter document evaluated lead effects on cardiovascular endpoints, pregnancy, and early postnatal exposures. The 1990 supplement did not lead to revision of the primary and secondary lead standards issued in 1978. The National Center for Environmental Assessment, Research Triangle Park, NC (NCEA-RTP), in EPA's Office of Research and Development, released a draft Project Work Plan for Revised Air Quality Criteria for Lead in January 2005. The chartered CASAC conducted a consultation on this draft work plan on March 28, 2005. The Agency is scheduled to release the First External Review Draft AQCD for Lead (First Draft Lead AQCD) in January 2006. At that time, the Agency will also invite public comments on the First Draft Lead AQCD. The Agency has asked CASAC to peer-review the First Draft Lead AQCD at a public meeting in May 2006.

The SAB Staff Office is announcing the formation of the CASAC Lead Review Panel to review the criteria and the Agency's Staff Paper for Lead. The Staff Paper for Lead evaluates policy implications of the key scientific and technical information contained in the AQCD for Lead. As such, the staff paper bridges the gap between the science in the Lead AQCD, and the public health and welfare policy judgments that the EPA Administrator must also consider when reviewing the Lead National Ambient Air Quality Standard (NAAQS).

The SAB Staff Office is soliciting nominations for qualified scientists to serve on the CASAC Lead Review Panel. The CASAC Lead Review Panel will operate for two to four years, and will be provided with a separate charge for each review or project.

Technical Contact

Any questions concerning the AQCD for Lead should be directed to Dr. Robert Elias, NCEA-RTP, at phone: (919) 541-4167; or e-mail: elias.robert@epa.gov. NCEA-RTP expects to release and post the First Draft Lead AQCD on the NCEA Web site at: http://www.epa.gov/ncea/ for external review in January 2006.

Nominator's Assessment of Expertise

The SAB Staff Office requests nominees who are nationally-recognized experts in one or more of the following disciplines:

(a) Chemistry, environmental sources, transport and deposition of lead. Includes expertise in: (1) Inorganic and organometallic chemistry of lead; (2) methods of measuring environmental sources and source strengths from smelters, coal combustion plants, vehicles (historic and modern) and natural sources; (3) atmospheric transport, including methods of detecting transported lead (e.g., isotope analysis) in the gas phase, liquid phase, particle phase (both primary and resuspended); and (4) deposition of lead, including measurement of deposition rate as a function of surface properties.

(b) Multimedia routes of human exposure to lead. Includes knowledge of measurement methods (e.g., air sampling methodology) and observed environmental concentrations for multimedia human exposure pathways via inhalation and ingestion (relevant concentrations for various sources: soil, dust, drinking water, food, as well as others such as lead-based paint, pica for paint or soil, etc.).

(c) Modeling of multimedia human exposure uptake/absorption of lead to predict internal biokinetic distribution (blood/bone lead burdens):

(1) Lead exposure pathway assessment. Expertise in the physical and chemical properties of lead and the biogeochemical processes involved in the pathways involved in human exposure to lead. These pathways include:

(i) Air (both direct inhalation and deposition to surfaces likely to be contacted by humans);

(ii) drinking water (from typical sources including municipal systems, bottled water, public drinking fountains, and private wells);

(iii) food (including market sources, home gardens and recreational and subsistence fishing/hunting); and

(iv) soil/dust ingestion.

(2) Lead uptake/absorption. Expertise in the processes of uptake or absorption of lead in the digestive tract and lungs, including knowledge of digestive processes that affect the form of lead thus making it more (or less) available for absorption. Experience on the fate of inhaled particles is also desirable, including olfactory uptake.

(3) Internal biokinetic distribution and physiological effects of lead. Expertise on the physiological processes that determine the distribution of absorbed lead among the various organs and tissues of the human body. This would include expertise on the mechanisms of transport within the human body, the organs and tissues that accumulate significant amounts of lead, the concentrations at the organ/tissue level that might impair physiological processes, and the residence times (or other measures of potential impact) of lead in these tissues and organs. Expertise on the various mechanisms and routes of elimination and the mechanisms of this elimination is desirable.

(4) Tissue concentrations of lead. Includes expertise on measurement methods and observed concentrations for various biological tissues, including blood, teeth, and bone lead concentrations and lead levels in soft tissues such as brain, kidney, etc.

(5) Human growth and activity patterns. Expertise on growth patterns and typical human activity patterns from prenatal to elderly, including recreational, occupational, leisurely, and household activities. This would include knowledge of published data and of modeling applications.

(6) Exposure assessment modeling. Expertise and experience in measuring human population exposure to lead and/or in modeling human exposure to ambient and indoor pollutants. Expertise in relating indicators of human exposure to potential health outcomes and quantification of risk related to adverse health outcomes.

(d) Lead-induced health effects. Experience in epidemiologic/clinical evaluation and/or evaluation in laboratory animals or in in vitro test systems of lead-induced effects on:

(1) Neurological development and other neurological endpoints;

(2) Cardiovascular function;

(3) Immune system function;

(4) Heme synthesis;

(5) Genotoxic effects; and

(6) Carcinogenicity.

(e) Risk assessment and uncertainty characterization. Expertise in human health risk assessment for lead or other pollutants causing non-cancer and cancer health effects, including Bayesian statistical approaches and biostatistics. Expertise in designing uncertainty characterization frameworks for complex multi-media health assessments involving use of PBPK models, empirical data, microenvironmental exposure modeling and concentration-response functions drawing on both toxicological and epidemiological data. Specific areas of expertise should include probabilistic methods and Bayesian techniques.

(f) Evaluation of environmental effects of lead on terrestrial and aquatic ecosystems. Includes expertise and/or knowledge of most current methods and state-of-the-science for assessing: modes of action of lead in plants, animals, and microorganisms; exposure of aquatic and terrestrial organisms to lead in various forms and from various sources; bioavailability of lead and factors which modify the lead uptake by aquatic and terrestrial ecosystems; ecosystem responses at a range of spatial and temporal scales; lead sources, fate, transport, and mobility using stable isotopes; and critical loads for lead in aquatic and terrestrial ecosystems.

(g) Evaluation of economic effects of lead. Experience in evaluating economic effects of lead on consumptive-use ecological entities such as agriculture, commercial forests, aquaculture, shell fisheries, and commercial fisheries; and ability to monetize non-consumptive-use ecological entities such as recreation, aesthetics, biodiversity, and other ecological goods and services that are not typically assigned a monetary value.

Process and Deadline for Submitting Nominations

Any interested person or organization may nominate qualified individuals to add expertise to the CASAC Lead Review Panel in the areas of expertise described above. Nominations should be submitted in electronic format through the SAB Web site at the following URL: http://www.epa.gov/sab; or directly via the Form for Nominating Individuals to Panels of the EPA Science Advisory Board link found at URL: http://www.epa.gov/sab/panels/paneltopics.html. Please follow the instructions for submitting nominations carefully. To be considered, nominations should include all of the information required on the associated forms. Anyone unable to submit nominations using the electronic form and who has any questions concerning the nomination process may contact Mr. Fred Butterfield, DFO, as indicated above in this notice. Nominations should be submitted in time to arrive no later than September 27, 2005.

To be considered, all nominations should include: a current curriculum vitae (C.V.) which provides the nominee's background, qualifications, relevant research expertise and publications for service on the Panel; and a brief biographical sketch (“biosketch”). The biosketch should be no longer than one page and should contain the following information for the nominee:

(a) Current professional affiliations and positions held;

(b) Area(s) of expertise, and research activities and publications relevant to the Panel;

(c) Leadership positions in national associations or professional publications or other significant distinctions;

(d) Educational background, especially advanced degrees, including when and from which institutions these were granted;

(e) Service on other advisory committees or professional societies, especially those associated with issues under discussion in this review; and

(f) Sources of recent (i.e., within the preceding two years) grant and/or other contract support, from government, industry, academia, etc., including the topic area of the funded activity.

Please note that even negative responsive information (e.g., no recent grant or contract funding) should be indicated on the biosketch (by “N/A” or “None”). Incomplete biosketches will not be considered. The EPA SAB Staff Office will acknowledge receipt of nominations.

The credentials of nominees received in reply to this notice will be compared to the specific expertise sought for the CASAC Lead Review Panel. Qualified nominees will be included in a smaller subset (known as the “Short List”). The Short List will be posted on the SAB Web site at: http://www.epa.gov/sab, and will include, for each candidate, the nominee's name and their biosketch. Public comments will be accepted for 21 calendar days on the Short List. During this comment period, the public will be requested to provide relevant information or other documentation on nominees that the SAB Staff Office should consider in evaluating candidates. Panelists will be selected from the Short List.

For the EPA SAB Staff Office, a balanced subcommittee or review panel includes candidates who possess the necessary domains of knowledge, the relevant scientific perspectives (which, among other factors, can be influenced by work history and affiliation), and the collective breadth of experience to adequately address the charge. In establishing the final Panel, the SAB Staff Office will consider public responses to the Short List, information provided by candidates, and background information independently-gathered by the SAB Staff Office on each candidate (e.g., financial disclosure information and computer searches to evaluate a nominee's prior involvement with the topic under review). Specific criteria to be used in evaluating Short List candidates for Panel membership include: (a) Scientific and/or technical expertise, knowledge, and experience (primary factors); (b) availability and willingness to serve; (c) absence of financial conflicts of interest; (d) absence of an appearance of a lack of impartiality; and (e) skills working in committees, subcommittees and advisory panels; and, for the Panel as a whole, (f) diversity of, and balance among, scientific expertise, viewpoints, etc.

Prospective candidates will also be required to fill-out the “Confidential Financial Disclosure Form for Special Government Employees Serving on Federal Advisory Committees at the U.S. Environmental Protection Agency” (EPA Form 3110-48). This confidential form allows Government officials to determine whether there is a statutory conflict between that person's public responsibilities (which includes membership on an EPA Federal advisory committee) and private interests and activities, or the appearance of a lack of impartiality, as defined by Federal regulation. The form may be viewed and downloaded from the following URL address: http://www.epa.gov/sab/sge_course/pdf_sge/epaform3110_48.pdf.

The approved policy under which the EPA SAB Office selects subcommittees and review panels is described in the following document: Overview of the Panel Formation Process at the Environmental Protection Agency Science Advisory Board (EPA-SAB-EC-02-010), which is posted on the SAB Web site at: http://www.epa.gov/sab/pdf/ec02010.pdf.

Dated: August 30, 2005.
Anthony Maciorowski,
Acting Director, EPA Science Advisory Board Staff Office.

[FR Doc. 05-17615 Filed 9-2-05; 8:45 am]

BILLING CODE 6560-50-P